NATIONAL FOUNDATION ON THE ARTS AND THE HUMANITIES

National Endowment for the Arts

Tribal Consultation

AGENCY: National Endowment for the Arts.

ACTION: Request for comments.

SUMMARY: In accordance with the National Endowment for the Arts (NEA) tribal consultation policy, the NEA solicits written comments from federally recognized tribes.

DATES: Written comments for the FY2025 Tribal Consultation will be solicited for a 60-day window or until March 6, 2025. Comments must be submitted to the office listed in the address section below on or before the close of business on March 6, 2025. Comments received after that date will be considered to the extent practicable. A summary report of the written comments, NEA responses, recommendations, and items identified for follow-up or additional action will be drafted and distributed via the Federal Register no later than 30 days after the closing of the comment period. Following dissemination of the draft summary, the record will remain open for 21 days to allow tribes to submit written testimony or additional comments before the report is finalized and published on the NEA website.

ADDRESSES: Please send comments to Native Arts Working Group, National Endowment for the Arts, via email at NativeArts@arts.gov.

SUPPLEMENTARY INFORMATION: Through this Request for Comments, the NEA is seeking input and comments from elected or appointed tribal leaders and officials or their authorized representatives. This Request for Comments also will be posted to the agency's website.

Subject issues for consultation and related questions are listed below.

1. NEA Resources

The NEA, established by Congress in 1965, is an independent federal agency that is the largest funder of the arts and arts education in communities nationwide and a catalyst of public and private support for the arts. By advancing equitable opportunities for arts participation and practice, the NEA aims to foster and sustain an environment in which the arts benefit everyone in the United States. This is accomplished primarily by providing resources to support the creative lives of all communities in the United States.

Grants are awarded for specific projects to 501(c)(3) nonprofit organizations, federally recognized tribes, or units of state or local government. Individual makers, artists, and culture bearers are recognized and supported through programs such as the NEA National Heritage Fellowships, NEA Jazz Masters Fellowships, and Creative Writing Fellowships. Forty percent of the NEA's program budget is granted to State Arts Agencies and Regional Arts Organizations, which make subgrants to support additional arts activities across the nation.

i. What is your awareness of our agency's efforts in your community and nationally?

ii. Have NEA resources affected your tribal community? If so, how?

iii. To what extent do you see the arts and cultural activities of your tribal community reflected in the resources we offer?

iv. The review criteria for our primary grant program, Grants for Arts Projects, includes artistic excellence, which is defined as “The quality of the artists and other key individuals, creative process, works of art, organizations, arts education providers, artistic partners, and/or services involved in the project and their relevance to the audience or communities the project aims to serve.” Does this definition of artistic excellence resonate with the artistic and cultural activities of your tribal community? How could this criteria better assess the creative projects of applicants from your community?

2. Executive Order 14112

The NEA is committed to adhering to the provisions outlined in E.O. 14112: Reforming Federal Funding and Support for Tribal Nations To Better Embrace Our Trust Responsibilities and Promote the Next Era of Tribal Self-Determination, dated December 11, 2023. The NEA has made progress on those commitments as outlined in our Equity Action Plan, outreach to Native communities to participate in our Grants for Arts Projects grant opportunities, and our overall tribal consultation approach. As we continue to improve our outreach to Native communities, we will provide updates on changes that are implemented to better serve Native constituents. The NEA is in the process of recruiting a new NEA Director of Native Arts & Tribal Affairs to lead agency efforts to better reach and serve the tribal communities.

i. How can the NEA best prioritize its support for tribal sovereignty and self-governance?

ii. How can NEA programs provide your community with the flexibility to improve its economic growth and address your community's specific needs?

iii. What funding and programmatic needs do you have?

3. Tribal Engagement

In recent years, the NEA has made grants to tribal governments and Tribal Colleges & Universities (TCUs). We also have recognized Indigenous artists with NEA National Heritage Fellowships. These direct grants to tribes, tribal citizens, and TCUs are in addition to the grants we make to Native-serving nonprofits.

i. How can the NEA expand on this engagement with tribes and increase awareness of these opportunities?

ii. If the NEA has the resources to send staff representatives to in-person events (e.g. national conferences and regional convenings of importance to tribal communities), where would our participation be most effective? Can you provide a point-of-contact for follow up?

4. Federal Resources for Native Arts & Cultural Activities

The NEA has previously provided annual updates of the Federal Resources for Native Arts & Cultural Activities, which is a consolidation of opportunities offered by federal agencies for organizations looking for funding and other resources to support Native arts and cultural activities.

i. Have you ever accessed this publication? Is this publication a useful resource to make available to tribal communities?

5. Tribal Consultation

The NEA's Tribal Consultation Policy, formally established in October 2021, is being reviewed for any necessary updates. In order to assist us in our review of the Policy, please share your thoughts on the following questions:

i. What recommendations do you have regarding the NEA's Tribal Consultation Policy?

Dated: December 20, 2024.
RaShaunda Thomas,
Deputy Director, Office of Administrative Services & Contracts, National Endowment for the Arts.

[FR Doc. 2024-31224 Filed 12-27-24; 8:45 am]

BILLING CODE 7537-01-P